DEPARTMENT OF TRANSPORTATION

Federal Transit Administration

FY16 Competitive Funding Opportunity: Grants for Buses and Bus Facilities and Low or No Emission Grant Programs; 5339(b) Grants for Buses and Bus Facilities Program and 5339(c) Low or No Emission Program—Correction

AGENCY: Federal Transit Administration (FTA), DOT.

ACTION: Notice; correction.

SUMMARY: On March 29, 2016, the Federal Transit Administration (FTA) published a Notice of Funding Opportunity (NOFO) in the Federal Register announcing the availability of approximately $211 million for Grants for Buses and Bus Facilities and $55 million for Low or No Emission Grants. The notice provided incomplete information regarding FTA's Buy America and Disadvantage Business Enterprise (DBE) requirements. Additionally, the NOFO was missing information in one place about how to submit applications through www.grants.gov. This notice corrects the March 29 notice.

FOR FURTHER INFORMATION CONTACT: For the Bus Program, contact Sam Snead, FTA Office of Program Management, 202-366-1089, or samuel.snead@dot.gov. For the Low-No Program, contact Tara Clark, same office, 202-366-2623, or tara.clark@dot.gov.

SUPPLEMENTARY INFORMATION:

Need for Correction

The FTA notice published in the Federal Register on March 29, 2016 (81 FR 17553), FR Doc. 2016-07027, contained errors. In subsection F. Federal Award Administration, iii. Administrative and National Policy Requirements, iii. Buy America and iv. Disadvantaged Business Enterprise, the notice provides incomplete information and refers to projects that involve passenger ferries, which are not eligible for funding under the Bus Program or Low-No Program. In section G. Technical Assistance and Other Program Information, the NOFO is missing the date by which applications must be submitted through www.grants.gov.

Therefore, FR Doc. 2016-07027 is corrected as follows:

1. On page 17560, in the 2nd column, subsection F. Federal Award Administration, iii. Administrative and National Policy Requirements, iii. Buy America is corrected to read as shown below:

iii. Buy America

The FTA requires that all capital procurements meet FTA's Buy America requirements, which require that all iron, steel, or manufactured products be produced in the U.S. These requirements help create and protect manufacturing jobs in the U.S. The Bus Program and Low-No Program will have a significant economic impact toward meeting the objectives of the Buy America law. The FAST Act amended the Buy America requirements to provide for a phased increase in the domestic content for rolling stock. For FY16 and FY17, the cost of components and subcomponents produced in the United States must be more than 60 percent of the cost of all components. For FY18 and FY19, the cost of components and subcomponents produced in the United States must be more than 65 percent of the cost of all components. For FY20 and beyond, the cost of components and subcomponents produced in the United States must be more than 70 percent of the cost of all components. There is no change to the requirement that final assembly of rolling stock must occur in the United States. FTA will be issuing guidance on the implementation of the phased increase in domestic content in the near future. Any proposal that will require a waiver must identify the items for which a waiver will be sought in the application. Applicants should not proceed with the expectation that waivers will be granted, nor should applicants assume that selection of a project under the Low-No Program that includes a partnership with a manufacturer, vendor, consultant, or other third party constitutes a waiver of the Buy America requirements for rolling stock applicable at the time the project is undertaken.

2. On page 17560, in the 2nd column, subsection F. Federal Award Administration, iii. Administrative and National Policy Requirements, iv. Disadvantaged Business Enterprise is corrected to read as shown below:

iv. Disadvantaged Business Enterprise

The FTA requires that its recipients receiving planning, capital and/or operating assistance that will award prime contracts exceeding $250,000 in FTA funds in a Federal fiscal year comply with the Disadvantaged Business Enterprise (DBE) program regulations at 49 CFR part 26. Applicants should expect to include any funds awarded, excluding those to be used for vehicle procurements, in setting their overall DBE goal. Note, however, that projects including vehicle procurements remain subject to the DBE program regulations. The rule requires that, prior to bidding on any FTA-assisted vehicle procurement, entities that manufacture vehicles, perform post-production alterations or retrofitting must submit a DBE Program plan and goal methodology to FTA. The FTA will then issue a transit vehicle manufacturer (TVM) concurrence/certification letter. Grant recipients must verify each entity's compliance with these requirements before accepting its bid. A list of compliant, certified TVMs is posted on FTA's Web page at https://www.fta.dot.gov/regulations-and-guidance/civil-rights-ada/eligible-tvms-list. Please note, that this list is nonexclusive and recipients must contact FTA before accepting bids from entities not listed on this web-posting. Recipients may also establish project specific DBE goals for vehicle procurements. The FTA will provide additional guidance as grants are awarded. For more information on DBE requirements, please contact Jennifer Riess, Office of Civil Rights, 202-366-3084, email: jennifer.riess@dot.gov.

3. On page 17560, in the 3rd column, section G. Technical Assistance and Other Program Information is corrected to insert a deadline for complete applications of 11:59 p.m. EDT on May 13, 2016.

Matthew J. Welbes,
Executive Director.

[FR Doc. 2016-08295 Filed 4-11-16; 8:45 am]

BILLING CODE 4910-57-P